DEPARTMENT OF EDUCATION

[Docket No. ED-2021-SCC-0052]

Agency Information Collection Activities; Comment Request; CRRSAA Supplemental Aid to Institutions of Higher Education Application

AGENCY: Office of Postsecondary Education (OPE), Department of Education (ED).

ACTION: Notice.

SUMMARY: In accordance with the Paperwork Reduction Act of 1995, ED is requesting the Office of Management and Budget (OMB) to conduct an emergency review of a new collection.

DATES: The Department requested emergency processing from OMB for this information collection request by March 25, 2021; and therefore, the regular clearance process is hereby being initiated to provide the public with the opportunity to comment under the full comment period. Interested persons are invited to submit comments on or before June 1, 2021.

ADDRESSES: To access and review all the documents related to the information collection listed in this notice, please use http://www.regulations.gov by searching the Docket ID number ED-2021-SCC-0052. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave. SW, LBJ, Room 6W208D, Washington, DC 20202-8240.

FOR FURTHER INFORMATION CONTACT: For specific questions related to collection activities, please contact Karen Epps, (202) 453-6337.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: CRRSAA Supplemental Aid to Institutions of Higher Education Application.

OMB Control Number: 1840-New.

Type of Review: New collection.

Respondents/Affected Public: Private Sector; State, Local, and Tribal Governments.

Total Estimated Number of Annual Responses: 1,500.

Total Estimated Number of Annual Burden Hours: 4,500.

Abstract: Section 314(a)(3) of Coronavirus Response and Relief Supplemental Appropriations Act (CRRSAA) allocates funds for institutions of higher education that the Secretary determines have the greatest unmet needs related to the coronavirus. This collection includes (1) a certification and agreement and (2) a profile form that will be used by institutions applying for discretionary grant funding under this section.

Additional Information: Emergency processing was requested for the Department to issue these awards in a timely manner. These awards are particularly needed by IHEs that have experienced the greatest economic and educational disruptions caused by 2019-nCoV in order to support their recovery. Given the short timeframe, ED is unable to consult with the public prior to issuing the forms. However, ED has ample experience designing other similar forms in a way that is clear and minimizes burden. We estimate that the application will require 3 hours per applicant to complete.

Dated: March 29, 2021.
Kate Mullan,
PRA Coordinator, Strategic Collections and Clearance, Governance and Strategy Division, Office of Chief Data Officer, Office of Planning, Evaluation and Policy Development.

[FR Doc. 2021-06691 Filed 3-31-21; 8:45 am]

BILLING CODE 4000-01-P